ENVIRONMENTAL PROTECTION AGENCY

[FRL-9915-72-OW]

Notice of a Public Meeting: The National Drinking Water Advisory Council (NDWAC) Lead and Copper Rule Working Group Meeting

AGENCY: Environmental Protection Agency (EPA).

ACTION: Notice of a Public Meeting.

SUMMARY: The U.S. Environmental Protection Agency (EPA) is announcing a public meeting of the National Drinking Water Advisory Council (NDWAC) Lead and Copper Rule Working Group (LCRWG). The meeting is scheduled for September 18 and 19, 2014, in Arlington, VA. During this meeting, the LCRWG and the EPA will focus discussions on the Lead and Copper Rule revision issues associated with lead sampling protocols and public education requirements for lead and copper.

DATES: The meeting on September 18, 2014, will be held from 9:00 a.m. to 5:00 p.m., eastern time, and on September 19, 2014, from 9:00 a.m. to 3:00 p.m., eastern time.

ADDRESSES: The public meeting will be held at the Cadmus Group Inc., 1555 Wilson Blvd., Suite 300, Arlington, VA, and will be open to the public. All attendees must sign in with the security desk and show photo identification to enter the building.

FOR FURTHER INFORMATION CONTACT: For more information about this meeting or to request written materials contact Lameka Smith, Standards and Risk Management Division, Office of Ground Water and Drinking Water, at the EPA, by phone at (202) 564-1629 or by email at LCRWorkingGroup@epa.gov. For additional information about the Lead and Copper Rule, please visit: http://water.epa.gov/lawsregs/rulesregs/sdwa/lcr/index.cfm.

SUPPLEMENTARY INFORMATION: Details about Participating in the Meeting: Members of the public who would like to register for this meeting should contact Lameka Smith by September 16, 2014, by email at LCRWorkingGroup@epa.gov or by phone at 202-564-1629. The LCRWG will allocate 15 minutes for the public's input at the meeting on September 18th and 15 minutes on September 19th. Each oral statement will be limited to five minutes at the meeting. It is preferred that only one person present a statement on behalf of a group or organization. To ensure adequate time for public involvement, individuals or organizations interested in presenting an oral statement should notify Lameka Smith no later than September 11, 2014. Any person who wishes to file a written statement can do so before or after the LCRWG meeting. Written statements intended for the meeting must be received by September 11, 2014, to be distributed to all members of the working group before the meeting. Any statements received on or after the date specified will become part of the permanent file for the meeting and will be forwarded to the LCRWG members for their information.

Special Accommodations: For information on access or to request special accommodations for individuals with disabilities please contact Lameka Smith at (202) 564-1629 or by email at LCRWorkingGroup@epa.gov at least 10 days prior to the meeting to give the EPA as much time as possible to process your request.

Dated: August 15, 2014.
Peter Grevatt,
Director, Office of Ground Water and Drinking Water.

[FR Doc. 2014-20274 Filed 8-26-14; 8:45 am]

BILLING CODE 6560-50-P